DEPARTMENT OF AGRICULTURE

Forest Service

RIN 0596-AC61

Notice of Extension of Public Comment Period for the Forest Service Proposed Wind Energy Directives (FSM 2720, FSH 2609.13 and FSH 2709.11)

AGENCY: Forest Service, USDA.

ACTION: Notice of extension of public comment period.

SUMMARY: The Forest Service is extending the public comment period an additional 60 days, from November 23, 2007, to January 23, 2008, for the proposed directives for wind energy development on National Forest System (NFS) lands. As stated in the original Public Notice which was published on Monday, September 24, 2007, Federal Register Vol. 72, No. 184, the Forest Service is proposing to amend its internal directives for special use authorizations and wildlife monitoring. Reviewers may obtain a copy of the proposed amendments from the address cited in the addresses section below or from the Forest Service home page on the World Wide Web at: http://www.fs.fed.us/recreation/permits/energy.htm. Public comment is invited and will be considered in the development of final directives.

DATES: Comments must be received by January 23, 2008.

ADDRESSES: Send written comments to Wind Energy Proposed Directives, Attention: Director, Lands Staff, 4th Floor-South, USDA Forest Service, 1400 Independence Avenue, SW., Mailstop 1124, Washington, DC 20250, or by facsimile to (202) 205-1604. You may also submit comments by following the instructions at the Federal e-rulemaking portal at http://www.regulations.gov.

All comments, including names and addresses when provided, will be placed in the record and will be available for public inspection and copying. The public may inspect comments received on the proposed directives in the USDA Forest Service Headquarters located at 201 14th Street, SW., Washington, DC, during regular business hours between 8:30 a.m. and 4:30 p.m., Monday through Friday, except holidays. Those wishing to inspect comments are encouraged to call ahead to (202) 205-1248 or (202) 205-0895 to facilitate entry into the building.

FOR FURTHER INFORMATION CONTACT: Paul Johnson, Minerals and Geology Management, (703) 605-4793, or Julett Denton, Lands Staff, (202) 205-1256.

Individuals who use telecommunication devices for the deaf (TDD) may call the Federal Information Relay Service (FIRS) at 1-800-877-8339 between 8 a.m. and 8 p.m., Eastern Standard Time, Monday through Friday.

Dated: November 20, 2007.
Corbin L. Newman, Jr.,
Acting Deputy Chief, National Forest System.

[FR Doc. E7-22977 Filed 11-26-07; 8:45 am]

BILLING CODE 3410-11-P